DEPARTMENT OF TRANSPORTATION

Federal Aviation Administration

First Meeting: RTCA Special Committee 232, Airborne Selective Calling Equipment

AGENCY: Federal Aviation Administration (FAA), U.S. Department of Transportation (DOT).

ACTION: Meeting notice of RTCA Special Committee 232, Airborne Selective Calling Equipment.

SUMMARY: The FAA is issuing this notice to advise the public of the first meeting of RTCA Special Committee 232, Airborne Selective Calling Equipment.

DATES: The meeting will be held September 3-5, from 9 a.m.-12 p.m.

ADDRESSES: The meeting will be held at RTCA Headquarters, 1150 18th Street NW., Suite 910, Washington DC 20036.

FOR FURTHER INFORMATION CONTACT: You may contact the RTCA Secretariat, 1150 18th Street NW., Suite 910, Washington, DC 20036, or by telephone at (202) 833-9339, fax at (202) 833-9434, or Web site http://www.rtca.org for directions.

SUPPLEMENTARY INFORMATION: Pursuant to section 10(a)(2) of the Federal Advisory Committee Act (Pub. L. 92-463, 5 U.S.C., App.), notice is hereby given for a meeting of Special Committee 216.

September 3-5

• Welcome/Introductions/Administrative Remarks.

• Agenda Overview.

• RTCA Overview.

○ Background on RTCA, MOPS, and Process.

• Review of Selective Calling (SELCAL) Code Pool Expansion.

• SC-232 Scope and Terms of Reference.

• SC-232 Structure and Organization of Work.

• Other Business.

• Date and Place of Next Meetings.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 28, 2014.
Mohannad Dawoud,
Management Analyst, NextGen, Business Operations Group, Federal Aviation Administration.

[FR Doc. 2014-18516 Filed 8-4-14; 8:45 am]

BILLING CODE 4910-13-P